FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011839-003.

Title: Med-Gulf Space Charter Agreement.

Parties: Hapag-Lloyd Container Linie GmbH and Compania Sud Americana de Vapores S.A.

Filing Party: Wayne R. Rohde, Esq.; Sher & Blackwell LLP; 1850 M Street, NW., Suite 900, Washington, DC 20036.

Synopsis: The amendment would delete CP Ships, add Hapag-Lloyd Container Linie GmbH, make corresponding changes throughout the agreement, change the name of the agreement, and restate the agreement.

Agreement No.: 201170.

Title: The Los Angeles and Long Beach Port Infrastructure and Environmental Programs Cooperative Working Agreement.

Parties: Port of Los Angeles and Port of Long Beach.

Filing Party: Heather M. Burns, Esq., Los Angeles City Attorney's Office, 425 S. Palos Verdes St., San Pedro, CA 90731.

Synopsis: The agreement would allow the parties to discuss and agree upon joint programs and strategies to improve port transportation infrastructure and decrease port-related pollution emissions. The parties request expedited review.

Dated: June 30, 2006.
By order of the Federal Maritime Commission.
Bryant L. VanBrakle,
Secretary.

[FR Doc. E6-10546 Filed 7-5-06; 8:45 am]

BILLING CODE 6730-01-P